DEPARTMENT OF JUSTICE

Notice of Lodging of Consent Decree Pursuant to the Oil Pollution Act

Notice is hereby given that a proposed Consent Decree in United States, et al. v. Torch Energy Company, et al. Civ. No. CV-02-3977 RSWL (Ex) (C.D. Cal), was lodged on May 16, 2002 with the United States District Court for the Central District of California.

The consent decree resolves claims under section 1002 of the Oil Pollution Act of 1990, 33 U.S.C. 2702, brought against Torch Energy Company, Nuevo Energy Company, and Black Hawk Oil & Gas Company collectively, (“Defendants”), for natural resource damages arising from the September 27, 1997 spill of oil from the offshore drilling platform named “Irene.”

The proposed consent decree requires the Defendants to pay $2,397,000 for natural resource damages to the United States and State of California. The consent decree includes a covenant not to sue by the United States and State under the Oil Pollution Act.

The Department of Justice will receive, for a period of thirty (30) days from the date of this publication, comments relating to the proposed Consent Decree. Comments should be addressed to the Assistant Attorney General for the Environment and Natural Resources Division, U.S. Department of Justice, P.O. Box 7611, Washington, DC 20044; and refer to United States, et al. v. Montrose Chemical Corporation of California, et al., No. CV 90-3122-R (C.D. Cal), and DOJ Ref. #90-11-3-06140.

The proposed settlement agreement may be examined at the Office of the United States Attorney, Central District of California, Federal Building, 300 North Los Angeles Street, Los Angeles, CA 90012; and the Region IX Office of the Environmental Protection Agency, 75 Hawthorne Street, San Francisco, CA 94105. A copy of the proposed Consent Decree may be obtained by mail from the Department of Justice Consent Decree Library, P.O. Box 7611, Washington, DC 20044. In requesting a copy please refer to the referenced case and enclose a check in the amount of $9.25 (25 cents per page reproduction costs), payable to the U.S. Treasury.

Ellen Mahan,
Assistant Section Chief, Environmental Enforcement Section, Environment and Natural Resources Division.

[FR Doc. 02-13626 Filed 5-29-02; 8:45 am]

BILLING CODE 4410-15-M